OFFICE OF PERSONNEL MANAGEMENT

5 CFR Part 532

RIN 3206-AJ22

Prevailing Rate Systems; Abolishment of the Philadelphia, PA, Special Wage Schedule for Printing Positions

AGENCY: Office of Personnel Management.

ACTION: Final rule.

SUMMARY: The Office of Personnel Management is issuing a final rule to abolish the Philadelphia, Pennsylvania, Federal Wage System (FWS) special wage schedule for printing positions. Printing and lithographic employees in the Philadelphia wage area will now be paid from the regular Philadelphia appropriated fund FWS wage area schedule. This change is necessary because there are no longer enough printing and lithographic employees in the wage area to conduct the local special wage survey successfully.

DATES: Effective Date: This regulation is effective on January 18, 2001.

FOR FURTHER INFORMATION CONTACT: Chenty I. Carpenter by phone at (202) 606-2838, by FAX at (202) 606-4264, or by email at cicarpen@opm.gov.

SUPPLEMENTARY INFORMATION: On August 17, 2000, the Office of Personnel Management (OPM) published an interim rule (65 FR 50127) to abolish the Philadelphia, PA, Federal Wage System (FWS) special wage schedule for printing positions. The interim rule had a 30-day period for public comment, during which we received no comments.

The Department of Defense (DOD) recommended that we abolish this special wage schedule because it has become extremely difficult for DOD to release adequate numbers of employees to conduct the local special wage survey successfully. The number of printing and lithographic employees in the wage area has declined from 117 employees in 1995 to about 5 employees currently. The decline in employees is expected to continue until there are no longer any printing and lithographic employees in the wage area. DOD found it increasingly difficult to comply with the requirement that employees paid from the special printing schedule participate in the local special wage survey process. The 1998 full-scale special wage survey required contacting 102 establishments in 5 counties in Pennsylvania and 3 counties in New Jersey.

Printing and lithographic employees converted to the Philadelphia FWS regular wage schedule on the first day of the first applicable pay period beginning on or after September 18, 2000. Each employee's new rate of pay was set at the step rate for the applicable grade of the regular wage schedule that equaled the employee's existing rate of pay. If an employee's existing pay rate fell between two steps on the regular schedule, the new rate was to be set at the higher of the two steps.

The Federal Prevailing Rate Advisory Committee, the national labor-management committee that advises OPM on FWS pay matters, recommended this change by consensus.

Regulatory Flexibility Act

I certify that this regulation will not have a significant economic impact on a substantial number of small entities because it will affect only Federal agencies and employees.

List of Subjects in 5 CFR Part 532

Administrative practice and procedure, Freedom of information, Government employees, Reporting and recordkeeping requirements, Wages.

Accordingly, under the authority of 5 US.C. 5343, the interim rule (65 FR 50127) amending 5 CFR part 532 published on August 17, 2000, is adopted as final with no changes.

U.S. Office of Personnel Management.
Janice R. Lachance,
Director.

[FR Doc. 00-32283 Filed 12-18-00; 8:45 am]

BILLING CODE 6325-01-P